DEPARTMENT OF ENERGY

Federal Energy Regulatory Commission

[Docket Nos. CP05-130-000; CP05-132-000; CP05-395-000; CP06-26-000; CP05-131-000 (Not consolidated)]

Dominion Cove Point LNG, L.P., Dominion Cove Point LNG, L.P., Dominion Cove Point LNG, L.P., Dominion Transmission, Inc.; Notice of Procedural Conference and Order on Late Interventions

February 2, 2006.

The Commission has received a number of pleadings in this proceeding regarding the quality of the natural gas delivered, and proposed to be delivered, to Washington Gas Light Company (WGL), from the liquefied natural gas (LNG) import terminal owned and operated by Dominion Cove Point LNG, LP (Cove Point), and the potential effects of the proposed expansion and modification of Cove Point's LNG import terminal on certain facilities owned by WGL.¹ The Commission staff has determined that discussing with the parties the issues raised in these various pleadings would assist staff in evaluating these matters.

¹ A list of pleadings that relate to these gas quality issues is in the Appendix to this Notice.

Accordingly, a Procedural Conference will be held at the Commission's offices in Washington, DC, on February 22, 2006, commencing at 10 a.m., in order that the parties and the Commission Staff can discuss the pleadings filed and the procedural options for continued timely processing of Cove Point's requests for expansion and modification of its LNG import terminal.

Participants at the conference should come prepared to discuss the relationship, if any, between Cove Point's proposal to expand and modify its LNG import terminal in the captioned proceedings and the problems on WGL's system which WGL alleges are associated with the quality of natural gas delivered from the Cove Point import terminal. As part of this discussion, participants should be prepared to provide information which shows that the alleged impacts on WGL's ability to provide safe and reliable services to its customers are either substantially related to the introduction of natural gas from Cove Point's LNG import terminal into Cove Point's pipeline and interconnecting pipelines and delivered to WGL, or are substantially related to other factors and that such problems have occurred prior to the introduction of LNG into Cove Point's pipeline and interconnecting pipelines.

The Commission, pursuant to Rule 214(d)(3)(i) of the Commission's Rules of Practice and Procedure, hereby grants the motions to intervene out of time listed in the Appendix to this Notice for the limited purpose of participating in the Procedural Conference. The Commission reserves the right to grant or deny further party status of any late intervenor, as appropriate.

FERC conferences are accessible under section 508 of the Rehabilitation Act of 1973. For accessibility accommodations please send an e-mail to accessibility@ferc.gov or call toll free (866) 208-3372 (voice) or (202) 208-1659 (TTY), or send a fax to (202) 208-2106 with the required accommodations.

Magalie R. Salas,
Secretary.

[FR Doc. E6-1700 Filed 2-7-06; 8:45 am]

BILLING CODE 6717-01-P